FEDERAL LABOR RELATIONS AUTHORITY

[FLRA Docket No. 0-NG-2353]

Notice of Opportunity To Submit Amicus Curiae Briefs in a Negotiability Proceeding Pending Before the Federal Labor Relations Authority; Withdrawal of Notice

AGENCY: Federal Labor Relations Authority.

ACTION: Notice of withdrawal of the request (65 FR 13763) for amicus curiae briefs in a proceeding before the Federal Labor Relations Authority.

SUMMARY: The Federal Labor Relations Authority had previously invited all interested parties to file briefs as amici curiae on significant issues arising in a case pending before the Authority. Because that case is no longer pending, the Authority withdraws its requests for briefs.

FOR FURTHER INFORMATION CONTACT: Peter Constantine, Director, Case Control Office, Federal Labor Relations Authority, (202) 482-6540.

SUPPLEMENTARY INFORMATION: On March 14, 2000, the Authority issued a notice, which was published in the Federal Register on March 14, 2000 (65 FR 13763), inviting interested parties to submit briefs in a proceeding before the Federal Labor Relations Authority in which the Authority has been asked to reconsider how management's statutory rights to direct employees and to assign work should be interpreted in relation to proposals that establish the number of performance rating levels for individual job elements and summary ratings. After this notice was published, the agency withdrew its allegation of non-negotiability, and the union withdrew its petition for review of negotiability issues. Accordingly, on March 27, the Authority dismissed the case and no longer requests amicus briefs.

Dated: March 28, 2000.
For the Authority.
Peter Constantine,
Director of Case Control.

[FR Doc. 00-7954 Filed 3-30-00; 8:45 am]

BILLING CODE 6727-01-P